DEFENSE NUCLEAR FACILITIES SAFETY BOARD

Notice of Public Hearing Postponement

AGENCY: Defense Nuclear Facilities Safety Board.

ACTION: Postponement of Public Hearing.

SUMMARY: Notice is hereby given that the Defense Nuclear Facilities Safety Board has postponed the Public Hearing previously scheduled for March 19, 2020, in Aiken, South Carolina.

DATES: The new date will be in approximately three to six months and will be announced in the Federal Register and https://www.dnfsb.gov as soon as possible.

ADDRESSES: The location of the Public Hearing will be announced in the Federal Register and https://www.dnfsb.gov along with the new date.

FOR FURTHER INFORMATION CONTACT: Tara Tadlock, Manager of Board Operations, Defense Nuclear Facilities Safety Board, 625 Indiana Avenue NW, Suite 700, Washington, DC 20004-2901, (800) 788-4016. This is a toll-free number.

SUPPLEMENTARY INFORMATION: This Public Hearing was previously announced in the Federal Register of February 28, 2020, in FR Doc. 2020-04133 on page 11980. Additional documentation related to this Public Hearing will be posted at https://www.dnfsb.gov as it becomes available.

Authority: 42 U.S.C. 2286b(a)

Dated: March 10, 2020.
Bruce Hamilton,
Chairman.

[FR Doc. 2020-05306 Filed 3-13-20; 8:45 am]

BILLING CODE 3670-01-P